DEPARTMENT OF EDUCATION

[Docket No.: ED-2022-SCC-0039]

Agency Information Collection Activities; Comment Request; Public Service Loan Forgiveness Reconsideration Request

AGENCY: Federal Student Aid (FSA), Department of Education (ED).

ACTION: Notice.

SUMMARY: In accordance with the Paperwork Reduction Act of 1995, ED is requesting the Office of Management and Budget (OMB) to conduct an emergency review of a new information collection.

DATES: The Department is requesting emergency processing and OMB approval for this information collection by March 31, 2022; and therefore, the Department is requesting public comments by March 29, 2022. A regular clearance process is also hereby being initiated to provide the public with the opportunity to comment under the full comment period. Interested persons are invited to submit comments on or before May 17, 2022.

ADDRESSES: To access and review all the documents related to the information collection listed in this notice, please use http://www.regulations.gov by searching the Docket ID number ED-2022-SCC-0039. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the PRA Coordinator of the Strategic Collections and Clearance Governance and Strategy Division, U.S. Department of Education, 400 Maryland Ave. SW, LBJ, Room 6W208D, Washington, DC 20202-8240.

FOR FURTHER INFORMATION CONTACT: For specific questions related to collection activities, please contact Ian Foss, 202-602-9669.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Public Service Loan Forgiveness Reconsideration Request.

OMB Control Number: 1845-NEW.

Type of Review: A new information collection.

Respondents/Affected Public: Individuals and Households.

Total Estimated Number of Annual Responses: 36,000.

Total Estimated Number of Annual Burden Hours: 9,000.

Abstract: The Department of Education (Department) is requesting an emergency clearance for a new information collection at the same time requesting a 60-day public comment period. This collection will be used to obtain information from federal student loan borrowers to determine eligibility for reconsideration of their Public Service Loan Forgiveness (PSLF) or Temporary Expanded Public Service Loan Forgiveness (TEPSLF) denial notification on the basis of payment counts or employer eligibility determinations pursuant to a settlement agreement between the Department and the American Federation of Teachers (ATF) which was signed on October 12, 2021. The settlement between the Department and the AFT requires that “as soon as practicable but no later than April 30, 2022, the Department will establish an interim reconsideration process that will be available to any borrower whose application for PSLF or TEPSLF has been or is denied”. In order to meet the requirements of this settlement, the Department must gather the information needed from the borrowers to reconsider their denial. This collection will allow for the collection and review of such reconsideration requests.

Additional Information: Due to the limited time from the approval of the agreement and to be able to meet the court-ordered timeline, we request that OMB allow the Department to clear the collection associated with the implementation of the reconsideration process using the emergency clearance procedures of the Paperwork Reduction Act of 1995, outlined in 42 U.S.C. 3507(j) as soon as possible.

Dated: March 15, 2022.
Kate Mullan,
PRA Coordinator, Strategic Collections and Clearance, Governance and Strategy Division, Office of Chief Data Officer, Office of Planning, Evaluation and Policy Development.

[FR Doc. 2022-05740 Filed 3-17-22; 8:45 am]

BILLING CODE 4000-01-P